DEPARTMENT OF TRANSPORTATION

Federal Railroad Administration

49 CFR Part 219

[Docket No. FRA-2001-11213, Notice No. 22]

Drug and Alcohol Testing: Determination of Minimum Random Testing Rates for 2018

AGENCY: Federal Railroad Administration (FRA), Department of Transportation (DOT).

ACTION: Notification of determination.

SUMMARY: This notification of determination announces the FRA Administrator's minimum annual random drug and alcohol testing rates for calendar year 2018.

DATES: This notification of determination is effective December 28, 2017.

FOR FURTHER INFORMATION CONTACT: Jerry Powers, FRA Drug and Alcohol Program Manager, W33-310, Federal Railroad Administration, 1200 New Jersey Avenue SE, Washington, DC 20590 (telephone 202-493-6313); or Sam Noe, FRA Drug and Alcohol Program Specialist (telephone 615-719-2951).

SUPPLEMENTARY INFORMATION: For the next calendar year, FRA determines the minimum annual random drug testing rate and the minimum annual random alcohol testing rate for railroad employees covered by hours of service laws and regulations (covered service employees) based on the railroad industry data available for the two previous calendar years (for this document, calendar years 2015 and 2016). Railroad industry data submitted to FRA's Management Information System (MIS) shows the rail industry's random drug testing positive rate for covered service employees has continued to be below 1.0 percent for the applicable two calendar years. FRA's Administrator has therefore determined the minimum annual random drug testing rate from January 1, 2018 through December 31, 2018, will remain at 25 percent of covered service employees under § 219.602 of FRA's drug and alcohol rule (49 CFR part 219). In addition, because the industry-wide random alcohol testing violation rate for covered service employees has continued to be below 0.5 percent for the applicable two calendar years, the Administrator has determined the minimum annual random alcohol testing rate will remain at 10 percent of covered service employees from January 1, 2018 through December 31, 2018, under § 219.608. Because these rates represent minimums, railroads may conduct FRA random testing of covered service employees at higher rates.

On June 12, 2017, maintenance-of-way (MOW) employees became subject to FRA random drug and alcohol testing. In the final rule which expanded the scope of part 219 to include MOW employees (81 FR 37894, June 10, 2016), FRA had set the initial minimum annual random testing rates for MOW employees at 50 percent of MOW employees for drugs and 25 percent of MOW employees for alcohol; FRA had set identical initial minimum random testing rates for covered employees when they first became subject to random testing. Unlike covered employees, however, FRA does not yet have two full years of MIS data to gauge the industry-wide random drug and random alcohol positive rates for MOW employees. For this reason, FRA's Administrator has determined that for MOW employees, from January 1, 2018 through December 31, 2018, the minimum annual random drug testing rate will remain at 50 percent of MOW employees, and the minimum annual random alcohol testing rate will remain at 25 percent of MOW employees. As with covered service employees, because these rates represent minimums, railroads may conduct FRA random testing of MOW employees at higher rates.

Issued in Washington, DC, on December 21, 2017.
Juan D. Reyes, III,
Chief Counsel.

[FR Doc. 2017-27976 Filed 12-27-17; 8:45 am]

BILLING CODE 4910-06-P